DEPARTMENT OF ENERGY

Federal Energy Regulatory Commission

[Project No. 2144-038; Project No. 2225-015]

Boundary Hydroelectric Project; Sullivan Creek Project; Notice of Availability of the Final Environmental Impact Statement for the Relicensing of the Boundary Hydroelectric Project and the Surrender of the Sullivan Creek Project

In accordance with the National Environmental Policy Act of 1969 and the Federal Energy Regulatory Commission (Commission or FERC) regulations contained in the Code of Federal Regulations (CFR) (18 CFR part 380 [FERC Order No. 486, 52 FR 47897]), the Office of Energy Projects has reviewed the applications for license for the Boundary Hydroelectric Project (FERC No. 2144-38), and the surrender of the Sullivan Creek Project (FERC No. 2225-015). The Boundary Project is located on the Pend Oreille River in Pend Oreille County, Washington. The Sullivan Creek Project is located on Sullivan Lake, and Sullivan Creek and Outlet Creeks, tributaries to the Pend Oreille River that empty into the Boundary Project reservoir. Both projects occupy lands within the Colville National Forest.

This final EIS contains staff evaluations of the applicants' proposals and the alternatives for relicensing the Boundary Project and surrendering the Sullivan Creek Project. The final EIS documents the views of governmental agencies, non-governmental organizations, affected Indian tribes, the public, the license applicants, and Commission staff.

A copy of the final EIS is available for review at the Commission or may be viewed on the Commission's Web site at http://www.ferc.gov, using the “e-Library” link. Enter the docket number of either project, excluding the last three digits, to access the document. For assistance, contact FERC Online Support at FERCOnlineSupport@ferc.gov or toll-free at (866) 208-3676, or for TTY, contact (202) 502-8659.

You may also register online at http://www.ferc.gov/docs-filing/esubscription.asp to be notified via e-mail of new filings and issuances related to these or other pending projects. For assistance, contact FERC Online Support.

For further information, please contact David Turner at (202) 502-6191 or at david.turner@ferc.gov.

Dated: September 9, 2011.
Kimberly D. Bose,
Secretary.

[FR Doc. 2011-23737 Filed 9-15-11; 8:45 am]

BILLING CODE 6717-01-P